DEPARTMENT OF LABOR

Employment and Training Administration

[NAFTA-003894]

Southland Manufacturing Company Incorporated, Ashland, Alabama; Notice of Termination

Pursuant to Title V of the North American Free Trade Agreement Implementation Act (Pub. L. 103-1 concerning transitional adjustment assistance, hereinafter called NAFTA-TAA and in accordance with Section 250(a), Subchapter D, Chapter 2, Title II, of the Trade Act of 1974, as amended (19 USC 2331), an investigation was initiated on May 8, 2000, in response to a petition filed on behalf of workers at Southland Manufacturing Company, Inc., Ashland, Alabama. Workers produce men's slacks.

The petitioner has requested that the petition be withdrawn. Consequently, further investigation has been terminated.

A Trade Adjustment Assistance investigation (TA-W-37, 719) to determine worker eligibility for benefits under the Trade Act of 1974, was instituted on May 30, 2000. A determination should be made within sixty (60) days of the institution date.

Signed in Washington, D.C., this 19th day of June 2000.
Grant D. Beale,
Program Manager, Division of Trade Adjustment Assistance.

[FR Doc. 00-17315 Filed 7-7-00; 8:45 am]

BILLING CODE 4510-30-M